DEPARTMENT OF HEALTH AND HUMAN SERVICES

Centers for Disease Control and Prevention

[Program Announcement 02060]

National Cancer Prevention and Control Program; Notice of Availability of Funds

A. Purpose

The Centers for Disease Control and Prevention (CDC) announces the availability of fiscal year (FY) 2002 funds for a cooperative agreement program for the National Cancer Prevention and Control Program (NCPCP). This program addresses the “Healthy People 2010” focus area(s) related to cancer.

This Program Announcement is issued in an effort to simplify and streamline the grant pre-award and post-award administrative process, measure performance related to each grantee's stated objectives and identify and establish the long-term goals of a NCPCP program through stated performance measures. Examples of the benefits of the streamlined process are: consistency in reporting expectations; and the ability for grantees to advance to the Implementation level for the National Comprehensive Cancer Control Program (NCCCP) or Enhancement level for the National Program of Cancer Registries (NPCR) based on performance when funds are available.

This Announcement incorporates funding guidance for the following three components: the National Comprehensive Cancer Control Program (NCCCP) (previously awarded under Program Announcements #99046, and #01115); the National Breast and Cervical Cancer Early Detection Program (NBCCEDP), (previously awarded under Program Announcements #97018, #96023, #99052, and #01038); and the National Program of Cancer Registries (NPCR) (previously awarded under Program Announcement #00027).

The NCPCP will assist States/District of Columbia/Tribes/Territories in developing, implementing, maintaining, enhancing, integrating, and evaluating a cancer program inclusive of cancer surveillance, prevention and early detection programs, and which focuses on eliminating health disparities. The purpose of each of the three programmatic components within the NCPCP follows.

A.1. NCCCP

The NCCCP component supports the planning and implementation of comprehensive cancer control activities. CDC defines comprehensive cancer control as an integrated and coordinated approach to reduce the incidence, morbidity and mortality of cancer through prevention, early detection, treatment, rehabilitation, and palliation.

A.2. NBCCEDP

The NBCCEDP component supports the development of systems to assure breast and cervical cancer screening for low income, underserved, uninsured women with special emphasis on reaching those who are geographically or culturally isolated, older, or members of racial/ethnic minorities. Components of the NBCCEDP include surveillance, partnership development, screening, referral and follow-up, quality assurance, public and provider education, and evaluation. These components are carried out at the local, State and national levels through collaborative partnerships with State health agencies, community-based organizations, tribal governments, universities, a variety of medical care providers and related agencies and institutions, and the business and voluntary sectors. These partners work together to develop, implement and evaluate strategies to promote breast and cervical cancer prevention and early detection, to increase access to related services and to improve the quality and timeliness of the services.

A.3. NPCR

The NPCR component supports efforts to establish population-based cancer registries where they do not exist and to improve existing cancer registries.

Throughout this program announcement, to the extent possible, information that is specific to the three individual components has been grouped into a section that addresses that component only. Section G “Specific Guidance for NCCCP” addresses the National Comprehensive Cancer Control Program; Section H “Specific Guidance for NCCEDP” addresses the National Breast and Cervical Cancer Early Detection Program; and Section I “Specific Guidance for NPCR” addresses the National Program of Cancer Registries. These component sections include specific guidance regarding:

• Eligibility

• Availability of Funds

• Program Requirements

• Content

• Other Requirements

• Evaluation Criteria

Please refer to these specific component sections for information.

Special Guidelines for Technical Assistance

Conference Call: Technical assistance will be available for potential applicants on three conference calls.

The first call will be for States/Tribes/Territories that are in atlantic, eastern, or central time zones, and will be held on April 29, 2002 from 9:00 a.m. to 11:00 a.m. (eastern time).

The second call will be for States/Tribes/Territories that are in mountain or pacific time zones, and will be held on April 29, 2002 from 3:30 p.m. to 5:30 p.m. (eastern time).

While all information disseminated will be consistent throughout the calls, a third call will be held particularly for tribal and territorial organizations on April 30, 2002 from 4:00 p.m. to 6:00 p.m. (eastern time).

Potential applicants are requested to call in using only one telephone line. The conference can be accessed by calling 1-800-713-1971 or 404-639-4100, and entering access code 285614. The purpose of the conference call is to help potential applicants to:

1. Understand the scope and intent of the Program Announcement for the National Cancer Prevention and Control Program;

2. Be familiar with the Public Health Services funding policies and application and review procedures.

Participation in this conference call is not mandatory. At the time of the call, if you have problems accessing the conference call, please call 404-639-7550.

B. Eligible Applicants

Applicants may apply for any or all of the components within this program announcement for which they are eligible.

B.1. Eligible for All Components

Potential applicants that are eligible for all components are the health departments of States or their bona fide agents, the District of Columbia, the Commonwealth of Puerto Rico, the Virgin Islands, the Commonwealth of the Northern Mariana Islands, American Samoa, Guam, the Federated States of Micronesia, the Republic of the Marshall Islands, and the Republic of Palau. (See also Attachment A—Eligibility Table in the appendices.)

B.2. Eligible for Specific Components/Guidance

In addition to the eligible applicants listed above, potential applicants that are eligible for specific components are:

B.2.a. NCCCP

Federally recognized Indian tribal governments and tribal organizations.

B.2.b. NBCCEDP

Federally recognized Indian Tribal governments and Tribal organizations, urban Indian organizations and inter-tribal consortia (hereafter referred to as Tribes) whose primary purpose is to improve American Indian/Alaska Native health and which represent the Native population in their catchment area.

B.2.c. NPCR

Academic or nonprofit organizations designated by the State to operate the State's cancer registry.

State health departments are uniquely qualified to define the cancer problem throughout the State, to plan and develop statewide strategies to reduce the burden of cancer, to provide overall State coordination of cancer prevention and control activities among partners, to lead and direct communities, to direct and oversee interventions within overarching State policies, and to monitor critical aspects of cancer.

Note: Title 2 of the United States Code section 1611 states that an organization described in section 501(c)(4) of the Internal Revenue Code that engages in lobbying activities is not eligible to receive Federal funds constituting an award, grant or loan.

C. Availability of Funds

Approximately $178,000,000 is available in FY 2002 to fund approximately 75 awards.

It is expected that awards under this program announcement will begin on or about September 30, 2002, and will be made for a 9 month budget period for the first year which will end on June 29, 2003. Future budget periods will be 12 month periods, and will begin on June 30 of every year and run through June 29 of each following year. These budget periods will occur within a project period of up to five years. Funding estimates may change.

The level of competitiveness varies within this program announcement for each component based on whether a program is currently funded, and if funded, based on the current project period. All non-competitive applications will be reviewed by a Technical Acceptability Review process. All competitive applications for the NCCCP component will be reviewed by an Independent Objective Review Panel. Competitive applications submitted for NBCCEDP and NPCR components will undergo a Technical Acceptability Review process for applications received from States and an Independent Objective Review for applications received from Tribes and Territories.

Existing grantees, under Program Announcement Numbers 01115 (for NCCCP—Planning and Implementation Recipients), 99052, and 01038 (for NBCCEDP), or 00027 (for NPCR), will have their existing project periods extended to FY 2007 upon receipt of a technically acceptable application. Applications for these funds will be reviewed as non-competitive.

All currently funded programs whose project periods end this calendar year, as well as any new applicants, will submit competitive applications.

Continuation awards within an approved project period will be made on the basis of satisfactory progress as evidenced by required progress reports and the availability of funds.

C.1. Component Funding

For specific “Component Funding” information, please see Sections G, H, and I.

C.2. Requested Budget Information

Applicants should submit separate budgets for each component (as well as separate budgets if applying for the Optional Funding under NCCCP) in response to this program announcement. Each detailed budget and narrative justification should support the activities for year one funding in response to this Program Announcement for FY 2002 support.

Current recipients' unobligated funds from the immediately prior budget period may be rolled into successful recipients' new awards unless they are currently in the last year of an existing project period.

Applications should follow the guidance below with respect to the development and submission of an itemized budget and justification for each component.

C.3. Use of Funds

For specific “Use of Funds” information, please see Sections G, H, and I.

Cooperative agreement funds may be used to support personnel and to purchase equipment, supplies, and services directly related to project activities and consistent with the scope of the cooperative agreement.

Funds provided under this program announcement may not be used to:

• Conduct research projects. Guidance regarding CDC's definition of “research” should be reviewed at http://www.cdc.gov/od/ads/opspoll1.htm.

• Supplant State or local funds, to provide inpatient care or treatment, or to support the construction or renovation of facilities.

Applicants are encouraged to identify and leverage mutually beneficial opportunities to interact and integrate with other State health department programs that address related chronic diseases or risk factors. This may include cost sharing to support a shared position such as a Chronic Disease Epidemiologist, Health Communication Specialist, Program Evaluator, or Policy Analyst to work on relevant activities across units/departments within the State health department. Such activities may include, but are not limited to, joint planning, joint funding of complementary activities, public health education, collaborative development and implementation of environmental, policy, systems, or community interventions and other cost sharing activities.

C.4. Recipient Financial Participation

For specific “Recipient Financial Participation” information, please see Sections G, H, and I.

C.5. Direct Assistance

For specific “Direct Assistance” information, please see Sections G, H, and I.

C.6. Funding Preferences

For specific “Funding Preference” information, please see Sections G, H, and I.

C.7. Funding Consideration

For specific “Funding Consideration” information, please see Sections G, H, and I.

D. Content

D.1. Letter of Intent

One Letter of Intent (LOI) is requested from each applicant applying for any component(s) of this program. The narrative should be no more than one single-spaced page, printed on one side, with one inch margins, and unreduced font. Your LOI will not be evaluated, but will be used to assist CDC in planning for the objective review for this program and should include the announcement number, the specific component(s) and parts of the component, if applicable, for which funds are being applied, and the name of the principal investigator.

D.2. Application Development

Use the information in the Program Requirements, Other Requirements, and Evaluation Criteria sections to develop the application content. Your application will be evaluated using the criteria listed, so it is important to follow them in laying out your program plan.

Applications should follow the guidance below with respect to page limitations for each component. All applications should be printed on one side, with one inch margins, using unreduced font. All materials must be provided in an unbound, one-sided, 8\1/2\ × 11″ print format, suitable for photocopying (i.e., no audiovisual materials, posters, tapes, etc.).

D.3. Page Limitations

For specific “Page Limitations” information, please see Sections G, H, and I.

D.4 Application Outline

Applicants may apply for any or all of the components within this program announcement for which they are eligible. Please provide specific “Application Outline” information for each component as outlined in specific Sections G, H, and I.

E. Submission and Deadline

E.1. Letter of Intent

On or before May 15, 2002, submit the LOI to the Grants Management Specialist identified in the “Where to Obtain Additional Information” section of this announcement.

E.2. Application

Submit the original and two copies of CDC Form 0.1246. Forms are available in the application kit and at the following Internet address: www.cdc.gov/od/pgo/forminfo.htm

On or before June 20, 2002, submit the original and two copies of the application to:

Technical Information Management (TIM), Procurement and Grants Office, Centers for Disease Control and Prevention, 2920 Brandywine Road, Room 3000, Atlanta, GA 30341-4146.

Please reference Program Announcement Number 02060 National Cancer Prevention and Control Program on the mailing envelope and on the application Standard Form 424, block 11. Please also make sure that block 16 on Standard Form 424, regarding Executive Order 12372 has been completed correctly.

E.3. Deadline

Applications shall be considered as meeting the deadline if they are received on or before the deadline date.

F. Evaluation Criteria

Each application will be evaluated individually against the following criteria by either a Technical Acceptability Review Panel or an Independent Review Group appointed by CDC.

For specific “Evaluation Criteria” information, please see Sections G, H, and I.

G. Specific Guidance for the National Comprehensive Cancer Control Program (NCCCP)

G.1. Eligible Applicants

The NCCCP component of this Program Announcement incorporates two types of eligibility. The first type is a Planning Program. Applicants who are in the planning phase of establishing a State/Tribe/Territory wide comprehensive cancer control plan should apply as a Planning Program.

The second type of NCCCP eligibility is an Implementation Program. Applicants who have already established a comprehensive cancer control plan and need to begin implementing established priorities should apply as an Implementation Program.

Applicants are eligible for Planning or Implementation Program funding, but not both.

G.2. Availability of Funds

Approximately $2,800,000 is available to fund 14 existing NCCCP grantees under Program Announcement Number 01115. It is expected that the average amount for NCCCP Planning Program recipients will be $125,000, ranging from $100,000 to $150,000 for a project period of up to five years. The average amount for NCCCP Implementation Program recipients will be $250,000, ranging from $200,000 to $300,000 for a project period of up to five years.

In addition, approximately $1,280,000 is available in FY 2002 to fund five to eight new NCCCP recipients. The average award, range of awards, and project period for these awards are the same as above.

Existing grantees awarded under NCCCP Program Announcement Number 99046 should apply for this component competitively. If the applicant competes successfully, a new award number under this program announcement will be issued for a new five year project period. If the applicant is unsuccessful, the project period previously awarded under Program Announcement Number 99046 will remain and expire at its originally anticipated date of November 30, 2002.

Pending availability of funds, each year of the project period for this overall program announcement (9/30/02-6/29/07) will incorporate an open season for competitive applications for the NCCCP component with applications due on or about February 28. (Specific guidance with exact dates to be provided in future years.) At that time, eligible applicants may apply for Planning funds or Implementation funds but not both.

In future budget years, Planning Program recipients demonstrating success in meeting Planning Program Performance Measures and fulfilling the requirements to advance to the Implementation Program may request Implementation Program funding before the end of the full five year project period. Applicants who do not submit technically acceptable applications for Implementation funding under this scenario would continue receiving Planning funding support.

Optional Additional NCCCP Funds

Additional optional funding for NCCCP (Implementation recipients only) is available for the implementation of Cancer Plan priorities related to colorectal, ovarian, prostate, and skin cancers. Approximately $3.9 million will be distributed to support activities as follows:

• Colorectal cancer activities—$1,000,000

• Ovarian cancer activities—$1,000,000

• Prostate cancer activities—$1,500,000

• Skin cancer activities—$475,000

Approximately 15 awards to successful Implementation Program recipients are anticipated with these additional funds. It is expected that the average amount for this optional component will be $300,000, and will range from $100,000 to $700,000. These awards will be for a project period of up to five years with the exception of activities related to skin cancer. Skin cancer activities will be funded for a one year period only. These applications will be reviewed by an Independent Objective Review Panel.

G.2.a. Direct Assistance

Applicants may request Federal personnel, as direct assistance, in lieu of a portion of financial assistance.

Requests for new direct-assistance should include:

G.2.a.(1) Number of assignees requested;

G.2.a.(2) Description of the position and proposed duties;

G.2.a.(3) Ability or inability to hire locally with financial assistance;

G.2.a.(4) Justification for request;

G.2.a.(5) Organizational chart and name of intended supervisor;

G.2.a.(6) Opportunities for training, education, and work experiences for assignees; and

G.2.a.(7) Description of assignee's access to computer equipment for communication with CDC (e.g., personal computer at home, personal computer at workstation, shared computer at workstation on site, shared computer at a central office).

G.2.b. Use of Funds

These funds should not be used to support other existing categorical programs such as breast and cervical cancer screening, cancer registry, laboratory or clinical services, or tobacco control programs. Funds awarded under this program announcement may not be used to supplant existing program efforts. Funds may not be used to provide direct medical care.

G.2.c. Recipient Financial Participation

Recipient financial participation is not required for this program in years 1-2 of funding. Recipient financial participation may be required in years 3-5 in an amount not less than one dollar for each three dollars of Federal funds awarded under this program.

G.2.d. Funding Preference

There are no funding preferences applicable to this component.

G.2.e. Funding Consideration

Funding consideration for the NCCCP component may be based on:

G.2.e.(1) Total amount of funding available to support the NCCCP. See G.2. “Availability of Funds” for this information.

G.2.e.(2) The proportion of funds awarded for NCCCP activities that were spent during the budget period, if such funds were received in the past.

G.2.e.(3) The appropriate and timely use of unobligated funds from previous years, if such funds were received in the past.

G.3. Program Requirements for NCCCP

In conducting activities to achieve the purpose of this program, the recipient will be responsible for conducting the activities under G.3.a. (Recipient Activities) and CDC will be responsible for the activities listed under G.3.b. (CDC Activities). All NCCCP recipient activity efforts to address tobacco use, poor oral health, poor nutrition, physical inactivity, and school health should be coordinated with State Programs focused on tobacco, oral health, nutrition, physical activity, and coordinated school health programs. Activities of these programs should not be duplicated.

G.3.a. Recipient Activities

CDC has developed performance measures to evaluate recipients' progress in meeting NCCCP requirements. These performance measures are listed following each associated recipient activity.

G.3.a.(1) Planning Activities:

G.3.a.(1)(a) Enhance comprehensive cancer control infrastructure by acquiring key staff and associated resources to produce a State/Tribe/Territory-wide comprehensive cancer control plan. Performance will be measured by the extent to which the program has (a) put in place the infrastructure for NCCCP including staff and other resources and (b) generated support, resources or secured funding to support NCCCP activities.

G.3.a.(1)(b) Mobilize support for comprehensive cancer control planning activities by assessing and building support among the public and private sectors. Build partnerships by identifying, contacting and inviting potential key private, professional, voluntary, and nonprofit cancer control organizations, policymakers, consumers, payers, media, State and Federal agencies, surveillance and data agencies, research and academic institutions, and others to become members of a new or existing State/Tribe/Territory-wide comprehensive cancer control coalition/partnership. Performance will be measured by the extent to which the program has developed or used coalitions and partners, both within (such as Breast and Cervical Cancer Early Detection Programs and the State or Territorial Central Cancer Registry) and outside of the organization and sustained these partnerships as ongoing entities by such activities as:

G.3.a.(1)(b)[1] Establishing written responsibilities (e.g., in a mission statement or scope of work);

G.3.a.(1)(b)[2] Establishing written inter-organizational linkages (e.g., a Memorandum of Understanding);

G.3.a.(1)(b)[3] Conducting formal assessment of members' skills and needs for education or training; or

G.3.a.(1)(b)[4] Conducting assessments of partnership member satisfaction.

G.3.a.(1)(c) Assess and address the State/Tribe/Territory cancer burden to determine the critical target areas for cancer prevention and control activities; assess gaps in strategies to address the cancer burden; develop a comprehensive cancer control plan that includes prioritized measurable goals and objectives; and identify implementing organizations for priority plan strategies. Performance will be measured by the extent to which the program has developed and used data (such as that which is available from the State or territorial central cancer registry) to define the cancer burden, set priorities and choose appropriate intervention strategies.

G.3.a.(1)(d) Conduct systematic evaluation of the comprehensive cancer control planning process and the program through identifying resources and staff for evaluation, defining planning evaluation questions, assessing the planning process, and identifying emerging challenges, solutions and outcomes of the planning process. The applicant should develop objective/quantitative measures of effectiveness that will demonstrate accomplishment of program goals and objectives and measure intended outcomes. These measures of effectiveness, through which the program will assess its own activities, should be specific to proposed activities in the work plan and should be submitted as part of this application. Performance will be measured by the extent to which the program has:

G.3.a.(1)(d)[1] Continuously evaluated and monitored its own process, objectives and activities.

G.3.a.(1)(d)[2] Developed and monitored measures of effectiveness for its proposed activities.

G.3.a.(2) Implementation Activities:

G.3.a.(2)(a) Implement priorities as established by the State/Tribe/Territory's comprehensive cancer control plan, which provides a framework for action to reduce the burden of cancer in the State/Tribe/Territory. Update and modify plan priorities and strategies to enable continual identification of critical target areas for cancer prevention and control activities; assess gaps in existing strategies to address the cancer burden; and prioritize and identify implementing organizations for emerging priority plan strategies.

Performance will be measured by the extent to which the program has:

G.3.a.(2)(a)[1] Identified partners who are implementing cancer control plan activities/strategies.

G.3.a.(2)(a)2) Established a process for assessing gaps in existing cancer control plan activities/strategies.

G.3.a.(2)(b) Enhance the organizational infrastructure by acquiring key staff and associated resources to coordinate and integrate cancer prevention and control efforts. This would include efforts to prioritize and support the implementation of cancer prevention and control activities. Identify and secure resources to support the development and dissemination of programs that will contribute to the priority areas identified within the comprehensive cancer control plan. Support organizational and stakeholder participation in national cancer prevention, early detection, and control campaigns.

Performance will be measured by the extent to which the program has:

G.3.a.(2)(b)[1] Put in place the infrastructure for NCCCP including staff and other resources.

G.3.a.(2)(b)[2] Generated support, resources or secured funding for implementation of priorities from the comprehensive cancer control plan.

G.3.a.(2)(c) Mobilize support for cancer prevention and control activities by assessing, continuing, and building additional support (resources, political will, etc.) among the public and private sectors. Build new and enhance existing partnerships by identifying, contacting and inviting potential key private, professional, voluntary, and nonprofit cancer control organizations, policymakers, consumers, payers, media, State and Federal agencies, surveillance and data agencies, research and academic institutions, and others to become members of a new or existing State/Tribe/Territory-wide comprehensive cancer control coalition or partnership. Performance will be measured by the extent to which the program has used coalitions and partners, both within (such as Breast and Cervical Cancer Early Detection Programs and the State or Territorial Central Cancer Registry) and outside of the organization, in the implementation of the comprehensive cancer control plan and sustained these partnerships as ongoing entities by such activities as:

G.3.a.(2)(c)[1] Organizing and using workgroup(s).

G.3.a.(2)(c)[2] Establishing written responsibilities (e.g., in a mission statement or scope of work).

G.3.a.(2)(c)[3] Establishing written inter-organizational linkages (e.g., a Memorandum of Understanding).

G.3.a.(2)(c)[4] Conducting formal assessment of members' skills and needs for education or training.

G.3.a.(2)(c)[5] Conducting assessments of partnership member satisfaction.

G.3.a.(2)(c)[6] Coordinating and working with partners to implement activities.

G.3.a.(2)(d) Conduct systematic evaluation of the cancer control prioritization and implementation process and the program. Evaluate progress in meeting goals, process and impact objectives as stated in the work plan and implementation plan. Develop objective/quantitative measures of effectiveness that will demonstrate accomplishment of program goals and objectives and measure intended outcomes. Performance will be measured by the extent to which the program has:

G.3.a.(2)(d)[1] Continuously evaluated and monitored its own process and the outcomes of the NCCCP Plan, its objectives and activities.

G.3.a.(2)(d)[2] Developed and monitored measures of effectiveness for its proposed activities.

G.3.a.(3) Recipient Activities for NCCCP (Optional) Additional Activities in Colorectal, Ovarian, Prostate and Skin Cancer:

Applicants who are submitting requests in response to this program announcement for NCCCP Implementation Programs have the option to submit additional proposal(s) to pursue activities described in their Comprehensive Cancer Control Plan addressing colorectal, ovarian, prostate and skin cancers. Up to four proposals may be submitted, but only one proposal in any cancer area. Activities proposed should be evidence-based; developed through coordination and collaboration between governmental and non-governmental partners; and reflect interventions that have been shown to be effective in similar settings.

These requests may include the following types of activities relating to colorectal, ovarian, prostate and skin cancers:

G.3.a.(3)(a) Establishment or expansion of campaigns, strategies and community-based initiatives to educate priority populations about prevention and/or control of these selected cancers.

G.3.a.(3)(b) Provider education programs about these cancers or their associated risk factors.

G.3.a.(3)(c) Implementation of policy mandates and environmental changes important in the prevention and control of these cancers.

Performance will be measured by the extent to which the program completes proposed activities. If all activities are not completed as planned, detail should be given on barriers encountered.

G.3.b. CDC Activities

G.3.b.(1) Assist with the exchange of information and collaboration among recipients.

G.3.b.(2) Provide to recipients relevant, state-of-the-art, research findings and public health recommendations related to comprehensive cancer control.

G.3.b.(3) Provide ongoing guidance, consultation, and technical assistance in conducting recipient activities.

G.3.b.(4) Assist with identifying and developing national cancer prevention and control campaigns and materials that can be integrated into comprehensive cancer control programs.

G.4. Content

Use the information in Sections G.3. Program Requirements for NCCCP, G.4. Content, G.5. Other NCCCP Requirements, and G.6. Evaluation Criteria to develop the application content. Your application will be evaluated using the criteria listed, so it is important to follow them in laying out your program plan.

Applications should not exceed 30 double-spaced pages including budget and justification. Applicants should also submit appendices (including curriculum vitae, job descriptions, organizational charts, and any other supporting documentation), which should not exceed an additional 20 pages (20 page limit excludes State/Tribe/Territory cancer plan, if applicable).

G.4.a. NCCCP Application Outline

Please provide the following information as outlined below.

G.4.a.(1) Executive Summary:

The applicant should provide a clear, concise 1-2 page written summary to include:

G.4.a.(1)(a) Need for comprehensive cancer control planning activities or implementation activities.

G.4.a.(1)(b) Identification of the major activities proposed to develop or implement a comprehensive cancer prevention and control plan.

G.4.a.(1)(c) Requested amount of Federal funding.

G.4.a.(1)(d) Applicant's capability to conduct the comprehensive cancer control activities.

G.4.a.(2) Background and Need:

The applicant should describe:

G.4.a.(2)(a) The cancer disease burden for the State/Tribe/Territory, including the most recently available age-adjusted, overall cancer incidence and mortality rates by age, gender, and racial and ethnic groups. Cite the source for and time period covered by these data. Also describe the estimated State/Tribe/Territory cancer incidence and mortality rates for 2002.

G.4.a.(2)(b) Relevant experiences in development and implementation of cancer prevention and control programs.

G.4.a.(2)(c) Relevant experiences in coordination and collaboration between and among existing programs.

G.4.a.(2)(d) Existing initiatives, capacity, and infrastructure (e.g., coalitions/partnerships; surveillance activities and systems; evaluation activities; information, media and health communications; education and outreach strategies) within which comprehensive cancer control will occur.

G.4.a.(2)(e) Description of the need for comprehensive cancer control funding to enhance existing efforts.

G.4.a.(3) Collaborative Partnerships and Community Involvement:

The applicant should include:

G.4.a.(3)(a) A description of the proposed or existing broad-based State/Tribe/Territory-wide partnership that will advise and support the program in planning and/or implementing comprehensive cancer control activities, including a plan for identifying new/additional key members, their charge and proposed roles/responsibilities.

G.4.a.(3)(b) A description of evidence of a broad and diverse level of support for and commitment to comprehensive cancer control planning or implementation (e.g., legislation supporting cancer prevention and control, other sources of funding for comprehensive cancer control, dedicated comprehensive cancer control staff); letters of support (in a separate tabbed section of the application) that indicate the nature and extent of existing or planned collaborative support.

G.4.a.(3)(c) A plan for collaborating with partners on national campaigns or education efforts.

G.4.a.(4) Management Plan:

The applicant should:

G.4.a.(4)(a) Submit a management plan that includes a description of proposed management structure that addresses the use of qualified and diverse technical, program, administrative staff (including in-kind staff), organizational relationships (in the appendices provide a copy of the organizational chart indicating the placement of the proposed or existing program in a department or agency), internal and external communication systems, and a system for sound fiscal management. Minimal staffing should include a program coordinator. Applicant should clearly indicate who is responsible for ensuring that a comprehensive plan is developed and/or implemented.

G.4.a.(4)(b) Provide a description of the proposed or existing linkages within the State/Tribe/Territory health department (e.g., across risk factors, categorically funded programs, disciplines) that will support integration and coordination within the agency. The description of the management structure should include discussion of the integration and coordination of risk factors and cancer-related programs both within and outside of the funded organization and the integration of these programs in the planning or implementation effort. It is important that the management plan address how coordination and cooperation among existing categorical program efforts will be facilitated, while allowing each program to maintain individual integrity and identity.

G.4.a.(4)(c) Provide a description of the proposed core planning or implementation team. The core team is traditionally made up of individuals both within and outside of the health agency that are committed to the development and implementation of the comprehensive cancer plan.

G.4.a.(4)(d) Provide (in the appendices) curriculum vitae and job descriptions of key staff to be partially or fully funded through this announcement, as well as any staff (who will devote 50 percent or more of their time to this program) to be provided through in-kind support.

G.4.a.(5) Workplan:

The applicant should provide a detailed work plan that describes how comprehensive cancer control activities will be conducted. It should include the following:

G.4.a.(5)(a) Goals and objectives for Year 01.

G.4.a.(5)(b) Activities planned to achieve objectives.

G.4.a.(5)(c) Data that will be used to assess program activities.

G.4.a.(5)(d) Time line for assessing progress.

G.4.a.(5)(e) The person or persons responsible for activities.

G.4.a.(5)(f) Overall measures of effectiveness.

Applicants are required to provide measures of effectiveness that will demonstrate the accomplishment of the various identified objectives of the cooperative agreement. Measures must be objective/quantitative and must measure the intended outcome. These measures of effectiveness shall be submitted with the workplan, as an element of evaluation.

Grantees may use the attached workplan template to present this information (Attachment B—Workplan Template in the appendices). Electronic copies of the template will be provided when requested from the Program Consultant listed in Section L “Where to Obtain Additional Information”—NCCCP Section.

G.4.a.(6) Comprehensive Cancer Control Plan: (for Implementation Applicants only)

The applicant should:

G.4.a.(6)(a) Submit a copy of the existing up-to-date State/Tribe/Territory-wide comprehensive cancer control plan, or an up-to-date draft of a comprehensive cancer control plan. A comprehensive cancer control plan should:

G.4.a.(6)(a)[1] Include an assessment of the cancer burden across the State/Tribe/Territory using population-based data.

G.4.a.(6)(a)[2] Include short-term and long-term goals, measurable objectives, proposed strategies to address the cancer burden and evaluation plans.

G.4.a.(6)(a)[3] Be created with diverse partners, inside and outside of the State/Tribe/Territory health department, that are committed to achieving the goals and objectives of the plan.

G.4.a.(6)(a)[4] Address cancer prevention, early detection, treatment, rehabilitation, palliation and quality of life.

G.4.a.(6)(b) Describe the process by which the plan was developed. If the plan is in draft format, describe the process for ensuring readiness for implementation by November 1, 2002. Include a description of the participating organizations' involvement in the development of the plan. Clearly describe a mechanism to review, evaluate, and update the plan to meet changing needs.

G.4.a.(6)(c) Describe who will be responsible for maintaining the comprehensive cancer control plan, assuring that the partnership/coalition is involved throughout the process, and that comprehensive cancer control efforts proceed according to the State/Tribe/Territory's plan. Describe how the cancer control plan will be implemented, including the process for determining priorities to be addressed in implementing the comprehensive cancer control plan, the process for assuring that these decisions are data-based or evidence-based and grounded in sound science, and the role of the coalition and/or collaborators in plan implementation. Describe existing programs funded by other sources that will be critical to the successful coordination and integration of the proposed comprehensive cancer control effort.

G.4.a.(7) Itemized Budget and Justification A detailed budget with supporting justification must be provided and should be related to objectives that are stated in the applicant's workplan.

Applicants should note the following budget-related issues:

G.4.a.(7)(a) Indirect Costs:

If indirect costs are requested, it will be necessary to include a copy of your organization's current negotiated Federal Indirect Cost Rate Agreement or a Cost Allocation Plan for those grantees under such a plan.

G.4.a.(7)(b) Travel:

Participation in CDC sponsored training workshops and meetings is essential to the effective implementation of the NCPCP. Travel for program implementation should be justified and related to implementation activities.

Participation or attendance in non-CDC sponsored professional meetings (e.g., ACS, NCI, APHA, other) may be requested but must be directly relevant to workplan activities. Participation may include the presentation of papers, poster sessions or exhibits on the project. Specific requests should be submitted with appropriate justification.

The annual travel budget should include:

G.4.a.(7)(b)[1] Travel funds for two staff members to participate in two meetings of NCCCP staff in Atlanta, GA for 2-3 days and one meeting of NCCCP staff at a regional location for 2-3 days.

G.4.a.(7)(b)[2] Funds for two staff members to make two, 2-3 day trips to Atlanta for CDC-sponsored workshops/meetings, such as the National Conference on Chronic Disease Prevention and Control and the CDC Cancer Conference.

G.4.b. NCCCP Optional Additional Funding Requests

Applicants requesting implementation funds through this Program Announcement have the option to submit requests to support colorectal, ovarian, prostate, and skin cancer activities described in their cancer plan. Up to four separate proposals for additional funding (one per specific cancer area) may be submitted. Each proposal is limited to five pages plus a separate budget and narrative justification.

Provide separate proposal(s) for activities described in the Comprehensive Cancer Control Plan addressing colorectal, ovarian, prostate or skin cancers (up to four proposals may be submitted, but only one in each of the four selected cancer areas). For each proposal, the following information should be submitted:

G.4.b.(a) Relation to Comprehensive Cancer Control Plan Priority:

Activities proposed for funding should relate directly to components of the Comprehensive Cancer Control Plan to be implemented.

G.4.b.(b) Evidence-based Activities:

Proposed activities should be evidence-based; relate to both disease burden and demonstrated need and deficiencies; and have been shown to be effective in similar settings.

G.4.b.(c) Organizational Capability:

The cancer program should document experience, capacity, and infrastructure to implement proposed activities.

G.4.b.(d) Evaluation:

A proposed plan for evaluating progress toward meeting objectives and assessing impact should be included; objectives should be specific, measurable, action-oriented, realistic, and time-phased.

G.4.b.(e) Itemized Budget and Justification See Section G.4.a.(7) above for guidance in developing this section of the Application.

G.5. Other Requirements

G.5.a. Progress Report (1 of 2)

In addition to the general guidance provided in Section J—“Other Requirements”, the first of the two required progress reports should include a description of:

G.5.a.(1) Activities accomplished in the current fiscal year, presented in relation to what has been proposed and measured by measures of effectiveness included in workplan (may submit either in narrative or work plan or chart format.)

G.5.a.(2) Progress in successfully accomplishing recipient activities, as measured by performance measures outlined in this program announcement.

G.5.a.(3) An activity that demonstrates the impact of the comprehensive cancer control program.

G.5.a.(4) The technical assistance needs of the cooperative agreement recipient.

G.5.b. Moving from a Planning Program to an Implementation Program within the five-year Project Period

For the NCCCP component, the first of the two required progress reports may be used as evidence of a NCCCP Planning Program's attainment of goals and objectives and the program's readiness to move to an Implementation Program award should funds be available. In future years, Planning Program grantees wishing to apply for an Implementation Program, should submit an application that:

G.5.b.(1) Demonstrates success in meeting Planning Program Performance Measures.

G.5.b.(2) Fulfills the requirements of the Implementation Program.

G.5.b.(3) References “Application Content” and “Recipient Activities” section of this program announcement including an itemized budget and justification.

Implementation Program applications will be reviewed by CDC staff utilizing a CDC Internal Review process. Applications can be submitted in fiscal year 2003, 2004, 2005, or 2006. Applications must be submitted (post marked) by February 28 of the fiscal year in which the applicant wishes to be considered for Implementation funding.

Funding decisions may be made on the basis of satisfactory progress on the Performance Measures noted for each component as evidenced by required reports (semi-annual report), application score, and the availability of funds. Performance measures are listed after each Recipient Activity.

G.6. Evaluation Criteria

G.6.a. Evaluation Criteria for NCCCP and NCCCP Optional Additional Funding

G.6.a.(1) Planning Programs:

G.6.a.(1)(a) Background and Need (10 points)

The extent of need based on disease burden by age, gender and racial/ethnic groups, mortality rates, incidence, cancer program experience, existing capacity, and infrastructure.

G.6.a.(1)(b) Collaborative Partnerships and Community Involvement (20 points)

The extent to which the evidence presented demonstrates the breadth and appropriateness of the current or proposed broad-based State/Tribe/Territory-wide coalition/partnership to advise and support comprehensive cancer control planning activities.

G.6.a.(1)(c) Management Plan (30 points)

The feasibility and clarity of the proposed management plan. The extent to which this plan addresses the use of qualified and diverse staff, describes proposed or existing linkages within the State/Tribe/Territory health department to support integration and coordination, and describes a proposed core planning team committed to the program.

G.6.a.(1)(d) Workplan (40 points)

The extent to which the workplan is feasible, appropriate, reasonable and provides a clear description of an evaluation component.

G.6.a.(1)(e) Budget with Justification (not scored)

The extent to which the proposed budget is adequately justified, reasonable, and consistent with this program announcement and the applicant's work plan.

G.6.a.(2) Implementation Programs:

G.6.a.(2)(a) Background and Need (10 points)

The extent of need based on disease burden by age, gender and racial/ethnic groups, mortality rates, incidence, cancer program experience, existing capacity, and infrastructure.

G.6.a.(2)(b) Collaborative Partnerships and Community Involvement (15 points)

The extent to which the evidence presented demonstrates the breadth and appropriateness of the current or proposed broad-based State/Tribe/Territory-wide coalition/partnership to advise and support comprehensive cancer control implementation activities.

G.6.a.(2)(c) Management Plan (20 points)

The feasibility and clarity of the proposed management plan. The extent to which this plan addresses the use of qualified and diverse staff, describes proposed or existing linkages within the State/Tribe/Territory health department to support integration and coordination, and describes a proposed core implementation team committed to the program.

G.6.a.(2)(d) Workplan (35 points)

The extent to which the workplan is feasible, appropriate, reasonable and provides a clear description of an evaluation component.

G.6.a.(2)(e) Comprehensive Cancer Control Plan (20 points)

The quality of the comprehensive cancer control plan in terms of an assessment of the cancer burden across the State/Tribe/Territory; inclusion of short-term and long-term goals, measurable objectives, and proposed strategies to address both the cancer burden and evaluation plans; inclusion of diverse partners in development and implementation of the cancer plan; and description addressing the full range of cancer prevention and control activities (from prevention to quality of life).

Applications will also be evaluated on the extent to which the evidence presented indicates that a broad range of partners and stakeholders will be included in reviewing and updating the plan as appropriate; mechanisms to review, evaluate and update the plan to meet evolving needs, and personnel who will be responsible for maintaining the plan, and describes how the cancer control plan will be implemented, including a description of existing programs that will be critical to the successful coordination and integration of the proposed comprehensive cancer control effort.

G.6.a.(2)(f) Budget with Justification (not scored)

The extent to which the proposed budget is adequately justified, reasonable, and consistent with this program announcement and the applicant's implementation plan.

G.6.a.(3) (Optional) Additional Activities in Colorectal, Ovarian, Prostate, and Skin Cancer.

Optional proposals for additional funding will be reviewed by an Objective Review Panel.

The following are criteria to be used for review of additional proposals:

G.6.a.(3)(a) Consistent with Priority Area Specified in the Comprehensive Cancer Control Plan (30 points) The extent to which activities proposed in the workplan relate to components of the Comprehensive Cancer Control Plan to be implemented.

G.6.a.(3)(b) Appropriate Activities (30 points)

The extent to which proposed activities are evidence-based; relate to disease burden and demonstrated need; and have been shown to have been effective in similar settings.

G.6.a.(3)(c) Organizational Capability (10 points)

The extent to which the cancer program has experience, capacity and infrastructure to implement proposed activities.

G.6.a.(3)(d) Evaluation (30 points)

The extent to which the proposed plan for evaluating progress toward meeting objectives and assessing impact appears reasonable and feasible; and the degree to which objectives are specific, measurable, action-oriented, realistic and time-phased.

G.6.a.(3)(e) Budget with Justification (not scored)

The extent to which the proposed budget is adequately justified, reasonable, and consistent with this program announcement and the applicant's work plan.

G.6.a.(3)(f) Human Subjects Protection (not scored)

The extent to which the application adequately addresses the requirements of Title 45 CFR Part 46 for the protection of human subjects.

H. Specific Guidance for the National Breast and Cervical Cancer Early Detection Program (NBCCEDP)

H.1. Eligible Applicants

Eligible tribal organizations in this category are encouraged to collaborate with other tribal organizations in geographic or cultural proximity to submit one application. Such collaboration will help to maximize the number of women potentially eligible for services under this program announcement.

H.2. Availability of Funds

Approximately $83,000,000 is available to fund 51 existing NBCCEDP grantees under Program Announcement Numbers 99052 and 01038. It is expected that the average award will be $1,570,000, ranging from $117,000 to $6,700,000.

In addition, approximately $57,000,000 is available in FY 2002 to fund 20 to 22 new NBCCEDP recipients. This includes current recipients under Program Announcements Numbers 97018 and 96023. It is expected that the average award will be $2,680,000, ranging from $200,000 to $7,940,000. Requests for these funds will be competitive.

H.2.a. Direct Assistance

No new direct assistance funds will be awarded in lieu of financial assistance to successful NBCCEDP component recipients.

H.2.b. Use of Funds

H.2.b.(1) 60/40 Requirement: Not less than 60 percent of cooperative agreement funds must be spent for screening, tracking, follow-up and the provision of appropriate individually provided support services. Cooperative agreement funds supporting public education and outreach, professional education, quality assurance and improvement, surveillance and program evaluation, partnerships, and management may not exceed 40 percent of the approved budget [Section 1503(a)(1) and (4) of the PHS Act, as amended]. Further information about the 60/40 distribution is provided in the NBCCEDP Policies and Procedure Manual, Section II, beginning on page 10. The NBCCEDP Policies and Procedures Manual can be accessed through the Internet at http://www.cdc.gov/cancer/nbccedp or by contacting the program technical assistant contact listed in Section J, Where to Obtain Additional Information.

H.2.b.(2) Inpatient Hospital Services: Cooperative agreement funds must not be spent to provide inpatient hospital or treatment services [Section 1504(g) of the PHS Act, as amended]. Refer to the NBCCEDP Policies and Procedures Manual, Section IV, “Reimbursement Policies for Screening and Diagnostic Services,” beginning on page 1, for additional information about allowable screening and diagnostic services.

H.2.b.(3) Administrative Expenses: Not more than 10 percent of the total funds awarded may be spent annually for administrative expenses. These administrative expenses are in lieu of and replace indirect costs [Section 1504(f) of the PHS Act, as amended]. Administrative expenses comprise a portion of the 40 percent component of the budget.

H.2.c. Recipient Financial Participation

H.2.c.(1) Matching Requirement Recipient financial participation is required for this program in accordance with the authorizing legislation. Section 1502(a) and (b)(1), (2), and (3) of the PHS Act, as amended, requires matching funds from non-Federal sources in an amount not less than one dollar for every three dollars of Federal funds awarded under this program. However, Title 48 of the U.S. Code 1469a(d) requires DHHS to waive matching fund requirements for Guam, U.S. Virgin Islands, American Samoa and the Commonwealth of the Northern Mariana Islands up to $200,000.

Matching funds may be cash, in-kind or donated services or equipment. Contributions may be made directly or through donations from public or private entities. Public Law 93-638 authorizes tribal organizations contracting under the authority of Title I to use funds received under the Indian Self-Determination Act as matching funds.

Applicants may also designate as State/Tribe/Territory matching funds any non-Federal amounts spent pursuant to Title XIX of the Social Security Act for the screening, tracking, follow-up and case management of women for breast and cervical cancers.

Matching funds may not include: (1) Payment for treatment services or the donation of treatment services; (2) services assisted or subsidized by the Federal government; or (3) the indirect or overhead costs of an organization.

All costs used to satisfy the matching requirements must be documented by the applicant and will be subject to audit. Specific rules and regulations governing the matching fund requirement are included in the PHS Grants Policy Statement, Section 6. Matching funds are not subject to the 60/40 requirement described above in H.2.b(1). For further information about the matching fund requirement, see the NBCCEDP Policies and Procedures Manual, Section II, pages 19-21 and page 35.

H.2.c.(2) Maintenance of Effort: In determining the matching funds for the NBCCEDP contribution, applicants should calculate the average amount of non-Federal contributions toward breast and cervical cancer programs and activities for the two year period preceding the first Federal fiscal year of funding for NBCCEDP. This amount is referred to as Maintenance of Effort (MOE). Only those non-Federal contributions in excess of the MOE amount may be considered as matching funds. Supplanting, or replacing, existing program efforts currently paid with Federal or non-Federal sources is not allowable.

H.2.d. Funding Preference

Funding preference may be given to applications from currently funded recipients. Preference may also be given to tribal organizations that collaborate with other tribal organizations in geographic or cultural proximity for the purpose of maximizing the number of women potentially eligible for services under this Program Announcement.

H.2.e. Funding Consideration

Funding Consideration for the NBCCEDP component may be based on:

H.2.e.(1) Total amount of funding available to support the NBCCEDP. See H.2. “Availability of Funds” for this information.

H.2.e.(2) The proportion of funds awarded for NBCCEDP activities that were spent during the budget period, if such funds were received in the past.

H.2.e.(3) The appropriate and timely use of unobligated funds from previous years, if such funds were received in the past.

H.3. Program Requirements for NBCCEDP

In conducting activities to achieve the purpose of this program, the recipient will be responsible for conducting the activities under H.3.a. (Recipient Activities) and CDC will be responsible for the activities listed under H.3.b. (CDC Activities).

H.3.a. Recipient Activities

H.3.a.(1) Provide breast and cervical cancer screening services in a timely and appropriate manner to a reasonable number of women (negotiated with CDC based upon eligible populations and funds to support clinical services) who are under-served, low-income and uninsured, with a focus on women from racial and ethnic minority populations. Performance will be measured by the extent to which the number of eligible women served and their demographic characteristics is consistent with projections.

H.3.a.(2) Refer women with abnormal screening results for diagnostic and treatment services in a timely and appropriate manner. Performance will be measured by the extent to which data are complete when submitted to CDC and the timeliness of diagnostic and treatment services meets the 60 day standard.

H.3.a.(3) Implement a breast and cervical cancer early detection program that meets or exceeds expectations in each of the NBCCEDP components. Descriptions of the NBCCEDP components, including each component's minimum core expectations, can be accessed through the Internet at http://www.cdc.gov/cancer/nbccedpor the technical assistance contact listed in Section J, “Where to Obtain Additional Information”. A summary of the NBCCEDP Program Components and their minimum core elements can be found as Attachment C—NBCCEDP Program Component in the appendices. Performance will be measured by the extent to which the program meets or exceeds the core elements of each of the program components.

H.3.a.(4) Review progress in meeting objectives and performance measures with CDC staff during regular conference calls and/or site visits. Evaluate all component activities routinely and use results to improve program planning and implementation. Performance will be measured by the extent to which there is an evaluation plan for each component and evaluation results are used to improve the program.

H.3.a.(5) Attend CDC-sponsored meetings and training opportunities.

H.3.b. CDC Activities

H.3.b.(1) Provide ongoing guidance, technical assistance and consultation to Grantees to support their planning, implementation and evaluation of each NBCCEDP program component. Technical assistance from CDC may address:

H.3.b.(1)(a) Practical application of Public Law 101-354, including amendments to the law.

H.3.b.(1)(b) Design and implementation of program components.

H.3.b.(1)(c) Interpretation of current scientific literature related to the early detection of breast and cervical cancer.

H.3.b.(1)(d) Interpretation of program outcome, screening and surveillance data.

H.3.b.(1)(e) Overall operational planning and program management.

H.3.b.(2) Provide relevant public health practice recommendations and occasions for exchange of information and collaboration among recipients.

H.4. Content

Use the information in Sections H.3. Program Requirements for NBCCEDP, H.4. Content, and H.5 Evaluation Criteria to develop the application content. Your application will be evaluated using the criteria listed, so it is important to follow them in laying out your program plan.

Applications should not exceed 65 double-spaced pages including budget and justification. Appendices (including curriculum vitae, job descriptions, organizational charts, and any other supporting documentation) are not counted in the 65-page limit.

H.4.a. NBCCEDP Application Outline

Please provide the following information as outlined below.

H.4.a.(1) Capability for Program Implementation (Up to 10 pages)

Applicants should address their capability to implement proposed activities.

Applicants not currently funded should describe experience with other screening programs and their results. Describe relationships with key partners who can recruit clients, affect systems, deliver services and support the screening program.

H.4.a.(2) Organizational Support (up to 5 pages)

The applicant should provide the following information:

H.4.a.(2)(a) A plan for program management, including an organizational chart. Describe those positions which have oversight responsibility. Address leadership and administrative plans. Discuss strategies for ensuring appropriate communication among key staff on the status of program implementation, maintenance, and related issues.

H.4.a.(2)(b) If the applicant has a cancer registry that has achieved NAACCR certification, a plan or description of the current process to link data elements (e.g., stage, tumor size, date of treatment initiation) related to cancers diagnosed through the program with the comparable information in the cancer registry in order to verify or correct data. For more information about Cancer Registries see http://www.cdc.gov/cancer/npcr, http://www-seer.ims.nci.nih.gov, and for NAACCR certification see http://www.NAACCR.org.

H.4.a.(2)(c) If the applicant currently has or is applying for comprehensive cancer control planning or implementation funds, describe the ways in which the breast and cervical cancer screening program will contribute to and benefit from activities related to comprehensive cancer control planning or implementation.

H.4.a.(3) Identification of Eligible and Priority Populations (Up to 2 pages)

The applicant should describe:

H.4.a.(3)(a) The number of women who are at or below 250 percent of the Federal poverty level and uninsured, by age (18-39; 40-49; 50-64) and racial/ethnic distribution (use 2000 Census data, unless it is not available). Note that tribes are encouraged to collaborate with other tribes in geographic or cultural proximity in order to maximize the number of women potentially eligible for services under this program announcement.

H.4.a.(3)(b) The priority populations for screening, including supporting data and/or justification for their selection. Describe the specific barriers to screening services that impede women in the priority populations from participating in breast and cervical cancer screening and follow-up services. Broadly, priority populations can be described as women who are racial, ethnic and/or cultural minorities, such as American Indians, Alaska Natives, African-Americans, Hispanics, Asian and Pacific Islanders, lesbians, women with disabilities, and women who live in geographically or culturally isolated communities in urban and rural areas. The term priority populations, as defined above, will be used throughout this document.

H.4.a.(3)(c) Regardless of the geographic area, priority for breast cancer screening should be given to women age 50 to 64 years of age. Priority for cervical cancer screening should be given to rarely or never screened women, age 18 to 64.

H.4.a.(4) Workplan (Up to 15 pages)

For each program component, a detailed workplan and timeline including evaluation activities to be accomplished must be submitted for the period September 30, 2002 through June 29, 2003. The minimum core expectations for each program component should be addressed in the workplan. For descriptions of the NBCCEDP components, see Attachment C—“NBCCEDP Program Components” in the appendices. The workplan should include the following:

H.4.a.(4)(a) Measurable goals and objectives.

H.4.a.(4)(b) Activities planned to achieve objectives.

H.4.a.(4)(c) Data that will be used to assess program activities.

H.4.a.(4)(d) Timeline for assessing progress.

H.4.a.(4)(e) Person or persons responsible for activities.

H.4.a.(4)(f) Overall measures of success/effectiveness.

Applicants are encouraged to use the NBCCEDP workplan template available through the Internet at http://www.cdc.gov/cancer/nbccedp/training/index.htm.

Applicants should include an attachment to the workplan with realistic screening projections for fiscal year 2002-2003 that are based on past screening performance. Applicants who are not currently funded by CDC for breast and cervical cancer screening should present data about existing programs, if applicable. Screening projections should include the number of women to be screened by the program by age, race and ethnicity. If women with other characteristics have been selected as priority populations, please estimate the number of these women to be served. Applicants should include a projection of the number of rarely and never screened women to receive a cervical cancer screening examination.

Applicants are encouraged to present screening projections using the Screening Projections Matrix, Attachment D—“Screening Projections Matrix” in the appendices.

The Breast and Cervical Cancer Treatment and Prevention Act of 2000 (Public Law 106-354) amends Title XIX of the Social Security Act to give States the option to provide Medicaid coverage to women who have been screened under the NBCCEDP and found to have breast or cervical precancerous conditions or cancer. If the applicant has submitted a request to the Center for Medicare and Medicaid Services (CMS) under this law and received approval, complete Attachment E—“The Breast and Cervical Cancer Prevention and Treatment Act Form” in the appendices. Additional information about this law can be obtained from the following web site: http://www.cdc.gov/cancer/nbccedp.

H.4.a.(5) Itemized Budget and Justification (Up to 10 pages)

A detailed budget with supporting justification must be provided and should be related to objectives that are stated in the applicant's workplan.

Applicants should note the following budget-related issues:

H.4.a.(5)(a) Travel:

Participation in CDC sponsored training workshops and meetings is essential to the effective implementation of the NCPCP. Travel for program implementation should be justified and related to implementation activities.

Participation or attendance in non-CDC sponsored professional meetings (e.g., ACS, NCI, APHA, other) may be requested but must be directly relevant to workplan activities. Participation may include the presentation of papers, poster sessions or exhibits on the project. Specific requests should be submitted with appropriate justification.

The annual travel budget should include:

H.4.a.(5)(a)[1] The Program Director or Coordinator to travel to Atlanta, GA to participate in two business meetings of Program Directors (2-3 days).

H.4.a.(5)(a)[2] The Data Manager and one other person to Atlanta, GA to participate in the Data Manager's meeting (2-3 days).

H.4.a.(5)(a)[3] 3-5 persons to attend up to two regional training opportunities.

H.4.a.(5)(a)[4] 3-5 persons to Atlanta, GA, as invited by CDC, to report program implementation progress (“reverse site visit”) and for consultation/technical assistance or to participate on national work groups/committees (two days).

The following additional guidance relates to the NBCCEDP portion only of this program announcement.

Indicate the 60/40 distribution required by presenting the budget in two columns, one containing the 60 percent allowable items and the other containing the 40 percent allowable items.

A sample 60/40 budget breakdown can be found in the NBCCEDP Policies and Procedures Manual, Section II, page 38. For further information about the 60/40 requirement, please refer to the NBCCEDP Policies and Procedures Manual, Section II, page 10.

The applicant should submit a completed Screening and Diagnostic Worksheet (Attachment F—“Screening and Diagnostic Worksheet” in the appendices) which is used to estimate the amount of funding needed to reimburse providers for allowable clinical services provided to eligible women served in your program. Further information about the Screening and Diagnostic Worksheet is provided in the NBCCEDP Policies and Procedures Manual, Section IV, pages 21-25. An electronic version of the Screening and Diagnostic Worksheet, an EXCEL spreadsheet, may be obtained through the program technical assistance contact listed in Section L. “Where to Obtain Additional Information.”

No new direct assistance funds will be awarded in lieu of financial assistance to successful NBCCEDP component applicants.

H.4.a.(6) Source Data for Matching Requirement (up to 1 page)

H.4.a.(6)(a) Provide a detailed description of the sources of non-Federal matching funds by name and the estimated amounts from each for the forthcoming fiscal year. Applicants are encouraged to use the Sources and Projections of Matching Funds worksheet (See Attachment G—“Sources and Projections of Matching Funds Worksheet” in the appendices). The applicant should document the procedures for determining the value of non-cash matching funds. Describe the procedures for documenting the actual match received. Further information about the Matching Funds Requirement can be found in the NBCCEDP Policies and Procedures Manual, Section II, pages 19-21 and page 35.

H.4.a.(6)(b) Previously funded applicants should provide their Maintenance of Effort amount. Applicants not currently funded should detail the average amount of non-Federal dollars spent by the applicant for breast and cervical cancer programs and activities for the two year period preceding the first Federal fiscal year of NBCCEDP funding.

H.4.a.(7) Letters of Commitment (Up to 10 pages)

Applicants should include letters of commitment (dated within the last three months) from key partners, participants, and community leaders that detail their participation in and support of the proposed program. If the applicant is a Tribe, also include either of the following documentation, as appropriate: 1) A signed and dated tribal resolution supporting the application from the Indian Tribe served by the project. If the applicant includes more than one Indian Tribe, resolutions from all Tribes to be served must be included; or 2) A letter of support for the application from the Board of Directors of an Urban Indian organization(s) or Indian Health organization(s), signed by the Board Chairman.

H.4.a.(8) Compliance with Program Requirements:

Requirements and Activities of Public Law 101-354 and related Amendments require that funds may not be awarded under this program unless the State, Tribe or Territory agrees that:

H.4.a.(8)(a) Funds will not be spent to make payment for any item or service that will be paid or can reasonably be expected to be paid by:

H.4.a.(8)(a)[1] Any State compensation program, insurance policy, or Federal or State health benefits program.

H.4.a.(8)(a)[2] An entity that provides health services on a prepaid basis. [Section 1504(d)(1) and (2) of the PHS Act, as amended]

H.4.a.(8)(b) If charges are to be imposed on clients for the provision of services or program activities, such fees/charges for allowable screening and diagnostic evaluation will be:

H.4.a.(8)(b)[1] Assessed according to a schedule of fees made available to the public. [Section 1504(b)(1) of the PHS Act, amended]

H.4.a.(8)(b)[2] Adjusted to reflect the income of the woman involved. [Section 1504(b)(2) of the PHS Act, as amended]

H.4.a.(8)(b)[3] Totally waived for any woman with an income of less than 100 percent of the Federal poverty line. [Section 1504(b)(3) of the PHS Act, as amended]

H.4.a.(8)(c) The schedule of fees/charges should not exceed the maximum allowable charges established by the Medicare Program administered by the Center for Medicare and Medicaid Services, formerly Health Care Financing Administration (HCFA). Fee/charge schedules should be developed in accordance with guidelines described in the interim final rule (42 CFR Parts 405 and 534) which implements Section 4163 of the Omnibus Budget Reconciliation Act of 1990 (Public Law 101-508) which provides limited coverage for screening mammography services.

H.4.a.(8)(d) It will assure, in accordance with the applicable law, the quality of screening procedures provided.

H.4.a.(8)(d)[1] All facilities conducting mammography screening procedures funded by the Program must be MQSA certified (Mammography Quality Standards Act of 1992). [Section 1503(c) of the PHS Act, as amended] Additional information about quality assurance is included in the NBCCEDP Policies and Procedures Manual, Section II, page 14.

H.4.a.(8)(d)[2] All facilities conducting cervical screening procedures funded by the Program must be CLIA certified (Clinical Laboratory Improvement Amendments of 1988). Pathologists participating in the program must record their findings using the Bethesda System. [Section 1503(c) of the PHS Act, as amended] Additional information about quality assurance is included in the NBCCEDP Policies and Procedures Manual, Section II, page 14.

H.4.a.(8)(e) Screening and re-screening procedures are available for both breast and cervical cancers and include a clinical breast exam, mammography, pelvic exam and Pap test. [Section 1503(a)(2)(A) and (B).]

H.4.a.(8)(f) If a new or improved, and superior, screening procedure becomes widely available and is used, this superior procedure will be utilized in the program [Section 1503(b) of the PHS Act, as amended].

H.4.a.(8)(g) Women served under the NBCCEDP are those with incomes at or below 250 percent of Federal poverty guidelines, who lack insurance coverage for these services. The official poverty line is established by the Director of the Office of Management and Budget (OMB) and revised by the Secretary of the Department of Health and Human Services (DHHS) in accordance with Section 673(2) of the Omnibus Budget Reconciliation Act of 1991 [Section 1504(a) of the PHS Act, as amended]. Policies related to eligibility for screening are detailed in the NBCCEDP Policies and Procedures Manual, Section IV.

H.4.a.(8)(h) Women screened in the Program will receive appropriate referrals for diagnostic services and, to the extent practicable, appropriate, affordable and timely diagnostic and treatment services. [Section 1501(a)(2) of the PHS Act, as amended]

H.4.a.(8)(i) Breast and cervical cancer screening services are established throughout the State, Tribe, or Territory [Section 1504(c)(1) of the PHS Act, as amended]. Funds may not be awarded under this announcement unless the State/Tribe/Territory involved agrees that services and activities will be made available throughout the State/Tribe/Territory, including availability to members of any Indian Tribe or tribal organization (as such terms are defined in Section 4 of the Indian Self-Determination and Education Assistance Act). CDC may waive [Section 1504(c)(2) of the PHS Act, as amended] this requirement if it is determined that compliance by the State/Tribe/Territory would result in an inefficient allocation of resources with respect to carrying out a breast and cervical cancer early detection program [as described in Section 1501(a)]. A request from the recipient outlining appropriate and detailed justification would be required before the waiver is approved.

H.4.a.(8)(j) The amount paid by a State/Tribe/Territory for a screening procedure will not exceed the amount that would be paid under part B of Title XVIII of the Social Security Act (Medicare). [Section 1501(b)(3) of the PHS Act, as amended]

H.4.a.(8)(k) Funds will be used in a cost-effective manner.

Applicants should include a statement that indicates that they have read and understand that they will be held accountable for items 8a-8k, and that they will maintain documentation that would provide proof of compliance in the event of a program or fiscal audit.

In addition, programs must provide the CPT codes and schedule of fees for breast and cervical cancer screening and diagnostic services to be used by the program. In States/Tribes/Territories where there are multiple Medicaid rates and a single reimbursement rate is proposed, the applicant must provide justification for approval.

H.5. NBCCEDP Evaluation Criteria

H.5.a. Capability/Commitment (35 points)

The likelihood that the applicant will be successful in implementing the proposed activities as measured by:

H.5.a.(1) For Currently Funded Applicants:

H.5.a.(1)(a) Prior performance, as reflected in the discussion of progress on meeting objectives in the current workplan and achieving the standards of the NBCCEDP program progress indicators.

H.5.a.(1)(b) The extent to which letters of commitment from key partners, participants, and community leaders detail their participation in and support of the proposed program.

H.5.a.(1)(c) If the applicant is a Tribe, the inclusion of a tribal resolution(s) or letter of support from the Board of Directors.

H.5.a.(2) For Applicants Not Currently Funded:

H.5.a.(2)(a) Prior performance, as reflected in the discussion of experience with similar existing programs or audiences.

H.5.a.(2)(b) Extent to which letters of commitment from key partners, participants, and community leaders detail their participation in and support of the proposed program.

H.5.a.(2)(c) If the applicant is a Tribe, the inclusion of a tribal resolution(s) or letter of support from the Board of Directors.

H.5.b. Organizational Support (15 points)

H.5.b.(1) The extent to which the leadership and administrative plans presented can reasonably be expected to facilitate the achievement of program goals and objectives and the resolution of problems.

H.5.b.(2) If the applicant has or is currently applying for comprehensive cancer control planning or implementation funds, the extent to which there is evidence that the breast and cervical cancer screening program's contributions to and benefits from that activity have been discussed.

H.5.b.(3) If the applicant has a Cancer Registry certified by NAACCR, the existence of a data linkage between the NBCCEDP and the cancer registry.

H.5.c. Identification of Eligible and Priority Populations (15 points)

The clarity with which the applicant describes the potentially eligible population, the depth of discussion of the selection and characteristics of the priority populations and the extent to which program activities have been designed to address barriers to care. The reasonableness of the projected population to be served based on past performance and the proposed recruitment and service delivery system.

H.5.d. Workplan (35 points)

The degree of comprehensiveness and quality of the workplan as measured by the quality of the objectives, the feasibility and likelihood of effectiveness of proposed activities to attain the objectives, the appropriateness of their related measures of effectiveness and the reasonableness of the proposed timeline, for each of the NBCCEDP program components.

H.5.e. Budget with Justification (Not Weighted)

The extent to which the proposed budget is reasonable, justified, consistent and in compliance with the program requirements.

H.5.f. Source Data for Matching Requirement (Not Weighted)

The extent to which the applicant describes the sources and amounts of matching funds, the methods for determining the value of non-cash match, the methods for documenting the match, the Maintenance of Effort amount and, in the case of applicants without current funding, the calculation of MOE.

H.5.g. Compliance With Program Requirements (Not Weighted)

A statement is provided indicating the applicant's understanding and acceptance of its accountability for compliance with program requirements.

I. Specific Guidance for the National Program of Cancer Registries (NPCR)

I.1. Eligible Applicants

The NPCR component of this program announcement incorporates two types of eligibility. The first type is Part I—Enhancement. This type of eligibility is defined as a State or territorial health agency or its designee that is requesting funds to support and/or enhance an existing State cancer registry.

The second type of NPCR eligibility is Part II—Planning. This type of eligibility is defined as a State or Territory with a limited or no established State cancer registry that is requesting funds to plan and implement a statewide cancer registry.

Eligible applicants may apply for either Part I (Enhancement) or Part II (Planning) but not both.

I.2. Availability of Funds

Approximately $29,500,000 is available in FY 2002 to fund 49 existing NPCR grantees under Program Announcement 00027. It is expected that the average award will be $649,000, ranging from $48,000 to $2,400,000.

In addition, approximately $500,000 is available in FY 2002 to fund two to four new NPCR recipients. It is expected that the average award will be $165,000, ranging from $75,000 to $250,000.

Based on evidence of meeting or exceeding performance standards of Planning related activities, and availability of funds, recipients of Planning funds do not necessarily need to complete the full five year project period before competing for Enhancement funds. Unsuccessful applicants for Enhancement funding under this scenario would continue with Planning support and would continue under their original five year project period.

Competition is limited in accordance with the authorizing legislation, the Cancer Registries Amendment Act (Public Law 102-515; Sections 399H-399L of the Public Health Service Act). This legislation was re-authorized as part of the Women's Health Research and Prevention Amendments of 1998 (Public Law 105-340).

States applying under Part I may be eligible to be considered for funds for advanced activities if they meet NPCR minimum standards or criteria for completeness, timeliness, and quality of data. (See Appendix I—National Program of Cancer Registries Program Standards that lists these standards.)

I.2.a. Direct Assistance

Applicants may request Federal personnel, as direct assistance, in lieu of a portion of financial assistance.

Requests for new direct-assistance should include:

I.2.a.(1) Number of assignees requested.

I.2.a.(2) Description of the position and proposed duties.

I.2.a.(3) Ability or inability to hire locally with financial assistance.

I.2.a.(4) Justification for request.

I.2.a.(5) Organizational chart and name of intended supervisor.

I.2.a.(6) Opportunities for training, education, and work experiences for assignees.

I.2.a.(7) Description of assignee's access to computer equipment for communication with CDC (e.g., personal computer at home, personal computer at workstation, shared computer at workstation on site, shared computer at a central office).

I.2.b. Use of Funds

No limitations are placed on the use of funds awarded for this component in addition to those that are referenced as standard guidance in the “PHS Grants Policy Statement” (Section 7. Costs Under PHS Grant-Supported Projects/Activities).

I.2.c. Recipient Financial Participation

I.2.c.(1) Matching Requirement (Part I Applicants only)

Recipients of funds under Part I must agree, with respect to the costs of the program, to make available (directly or through donations from public or private entities) non-Federal contributions toward such costs in an amount that is not less than 25 percent of such costs or one dollar for every three dollars of Federal funds provided in the grant. [Section 399H(b)(1) of the Public Health Service Act]

Non-Federal contributions may be in cash or in kind, fairly evaluated, including plant, equipment, or services. Amounts provided by the Federal government, or services assisted or subsidized to any significant extent by the Federal government, may not be included in determining the amount of such non-Federal contributions. [Section 399H(b)(2)(A) of the Public Health Service Act]

I.2.c.(2) Maintenance of Effort (Part I & Part II Applicants)

I.2.c.(2)(a) Recipients of funds must agree to make available (directly or through donations from public or private entities) non-Federal contributions equal to the amount expended during the fiscal year preceding the first year of the original NPCR grant award for the collection of data on cancer.

I.2.c.(2)(b) In determining the amount of non-Federal contributions the recipient may include only those contributions that are in excess of the amount of contributions made by the State for collection of data on cancer for the fiscal year preceding the first year of the original NPCR cooperative agreement award. CDC may decrease the amount of non-Federal contributions required if the State can show that the amount will cause them financial hardship. [Section 399H(b)(2)(B)] Details regarding criteria for defining “financial hardship” and the process for deciding eligibility are included in the application kit.

I.2.d. Funding Preference

Preference may be given to territorial organizations that collaborate with other Territories in geographic or cultural proximity for the purpose of maximizing the efficiency of registering cancer incidence cases.

I.2.e. Funding Consideration

Funding consideration for the NPCR Part I—Enhancement component may be based on:

I.2.e.(1) The geographic size of the State.

I.2.e.(2) The number of expected incident cases during the funding period.

I.2.e.(3) The extent to which data from the cancer registry meet the minimum NPCR program standards for completeness, timeliness and quality. The NPCR standards by which these data will be evaluated may be found in Attachment I—“National Program of Cancer Registries Program Standards” in the appendices.

I.2.e.(4) The extent to which the cancer registry has been able to utilize Federal funding, if funding for the NPCR program has been received in the past. Measurement of this criteria will be evaluated each year by using the amount of unobligated funds reported on each recipients' Financial Status Report for the NPCR component of this award. (See Section J.1. “Technical Reporting Requirements.”) This figure will be subtracted from the amount of the initial award to obtain the dollar amount spent. The amount spent will be divided by the amount of the initial award to obtain the percentage of the award that was spent.

I.2.e.(5) Total amount available to fund NPCR. See Section I.2. “Availability of Funds” for specific amount.

I.3. Program Requirements for NPCR

In conducting activities to achieve the purpose of this program, the recipient will be responsible for conducting the activities under I.3.a. (Recipient Activities) and CDC will be responsible for the activities listed under I.3.b. (CDC Activities).

I.3.a. Recipient Activities

I.3.a.(1) Support and enhance (Part I), or plan, implement, and support (Part II) the operation of population-based, statewide cancer registries in order to collect data concerning: each form of invasive cancer with the exception of basal cell and squamous cell carcinoma of the skin and each form of in-situ cancer except for carcinoma in-situ of the cervix uteri.

Note: Reportable diagnoses include VIN III, VAIN III, AIN III, juvenile astrocytoma, pilocytic astrocytoma, piloid astrocytoma. Performance will be measured by the extent to which the program complies with CDC's standards for data completeness and quality (See Attachment I—“National Program of Cancer Registries Program Standards”). Compliance will be determined based on a measurement of data submitted through the NPCR-CSS annual call for data.

Applicants applying for Part I must have a central registry at the State level, continuous and recent data collection efforts, existing core staff, and written central cancer registry operational policies and procedures implemented.

I.3.a.(2) Collect all required data items. A complete draft listing of required and supplementary/recommended data to be collected or derived for invasive and in-situ cancers diagnosed after January 1, 2003, is supplied in the attachment. These requirements will be finalized and published in Standards for Cancer Registries, Volume II, North American Association of Central Cancer Registries (NAACCR), Spring 2002 (NAACCR record layout version 10).

Performance will be measured by the extent to which:

I.3.a.(2)(a) The information collected or derived on cancer cases includes all data elements currently required by the CDC.

I.3.a.(2)(b) The data codes for all required and recommended data elements are consistent with those currently prescribed by CDC.

The listing of required and supplementary/recommended data items, and requirements for code sets, may be revised during the project period. Every effort will be made to finalize and disseminate revisions for a given diagnosis year no later than April 30th of the previous year.

I.3.a.(3) Develop and/or maintain the capability to import and export data in a standard format specified by CDC, in accordance with Section 399H(c)(2)(D)(iv) of Public Law 102-515. For cases diagnosed during calendar year 2003, NAACCR record layout Version 10 is required. (Some data items required for cases diagnosed on or after January 1, 2003, can only be captured and transmitted using NAACCR record layout Version 10.) The required format for data import and export may be revised during the project period. Performance will be measured by the extent to which the state central registry uses a standardized, CDC-recommended data exchange record layout for the exchange of data.

I.3.a.(4) Perform death certificate linkage and follow-back annually, in accordance with NAACCR standards, to obtain information on date of death, cause of death, and to identify unreported cancer cases. Performance will be measured by the extent to which the program has complied with NAACCR standards. Compliance will be determined based on a measurement of data submitted through the NPCR-CSS annual call for data.

I.3.a.(5) Provide for electronic storage, to the extent possible, of all source records including text and codes. Performance will be measured by the extent to which the program has documented their ability to store required data.

I.3.a.(6) Participate in an independent audit of compliance with NPCR standards as authorized by Section 399H(c)(2)(B)of Public Law 102-515, conducted by a CDC-approved organization/entity. Audit results will be furnished to CDC. Performance will be measured by receipt of audit results at CDC prior to the end of the project period.

I.3.a.(7) Submit cancer data to CDC annually, with the content and format specified by CDC as one of the required reports. (See “Other Requirements” Section.) Performance will be measured by the extent to which the program has submitted an analytic data file to CDC with individual records containing all requested data elements.

I.3.a.(8) Establish or enhance, and regularly convene an advisory committee to assist in building consensus, cooperation, and planning for the statewide cancer registry. Representation should include key organizations and individuals such as hospital cancer registrars, clinical-laboratory personnel, pathologists, and clinicians. Applicants should consider drawing the advisory committee from, or maintaining a close relationship with, any existing State cancer control coalition. Performance will be measured by the extent to which the program has documented meetings of the advisory committee in their progress reports.

I.3.a.(9) Produce an annual report of incidence and mortality rates in a timely manner, pursuant to Section 399H (c)(2)(C)of Public Law 102-515. Performance will be measured by the extent to which the program has provided for the publication of an annual report (hardcopy or electronic) which includes at minimum, age-adjusted incidence rates and age-adjusted mortality rates for the diagnosis year by sex for selected cancer sites and, where appropriate, by sex and race and ethnicity for selected cancer sites.

I.3.a.(10) Attend CDC-sponsored meetings and training opportunities.

I.3.a.(11) Participate and collaborate actively in State Comprehensive Cancer Control planning efforts. Registry data should be the foundation of all evidence based planning efforts that are undertaken by NCCCP recipients. Performance will be measured by the extent to which the program has documented in their progress reports, participation in Comprehensive Cancer Control efforts.

State Central Cancer Registries should also annually link their files with those of the State's NBCCEDP. These linkages can provide an additional source of casefinding for the central cancer registry and are a valuable data quality improvement tool for both the registry and the NBCCEDP.

I.3.a.(12) Part I Enhancement Advanced Activities:

States applying under Part I Enhancement may also conduct advanced cancer registry activities when the cancer registry demonstrates an ongoing capacity to excel in meeting minimum standards. The purpose of these activities should be to improve either the data or the operations of the cancer registry system. These activities may include but are not limited to: aggressive passive case follow-up; active case follow-up; needs assessment; geocoding; advanced data security; implementation of a cancer inquiry response system; receipt of encrypted case reports via the Internet or other source; automated casefinding via linkage with pathology reports, disease indices, or other data sources in addition to vital records; or linkage with the National Death Index for survival analysis; coding of occupation/industry data. Performance will be measured by the extent to which the program has documented improvements to cancer registry operations and/or data that are directly associated with the conduct of the enhanced activity.

I.3.b. CDC Activities

I.3.b.(1) Convene a meeting for information sharing, problem solving, and training at least annually.

I.3.b.(2) Provide ongoing consultation and technical assistance for effective program planning and management, including, but not limited to, assistance in the development of model legislation for statewide cancer registries; assistance in establishing a computerized reporting and data processing system; assistance in establishing a system to process source records from multiple institutions to a consolidated record; and assistance in monitoring completeness, timeliness, and quality of data.

I.3.b.(3) Provide technical assistance and possible collaboration in reporting of cancer rates and other components of an annual report on cancer occurrence in the State.

I.3.b.(4) Conduct site visits to assess program progress and mutually resolve problems, as needed.

I.3.b.(5) Receive, assess, enhance, aggregate and disseminate cancer incidence data from grantees for monitoring compliance with the terms and conditions of the cooperative agreement and assessment of achievement of NPCR program standards and priorities.

I.3.b.(6) Support quality control audits of State central cancer registries.

I.3.b.(7) Collaborate with State health departments and other national partners to establish standards for data completeness, timeliness, and quality, and to promote the use of cancer registry data to support cancer prevention and control efforts.

I.4. Content

Use the information in Sections I.3. Program Requirements for NPCR, I.4. Content, I.5 Other NPCR Requirements, and I.6. Evaluation Criteria to develop the application content. Your application will be evaluated using the criteria listed, so it is important to follow them in laying out your program plan.

Applications should not exceed 50 double-spaced pages including budget and justification. Applicants should also submit appendices (including curriculum vitae, job descriptions, organizational charts, and any other supporting documentation), which should not exceed an additional 20 pages.

I.4.a. NPCR Application Outline

Please provide the following information as outlined below.

I.4.a.(1) Certifications:

Non-State public health agency applicants for Part I or Part II must provide certification by the State designating the institution as the State's official applicant (Sec. 399H(a) and Sec. 399I(a)(2) of the Public Health Service Act, respectively).

I.4.a.(2) Assurances:

Recipients of funds must provide, as part of their application, assurances that they will provide for the authorization under State law of the statewide cancer registry, including the promulgation of regulations as required by Public Law 102-515; Section 399H(c)(2)(D) of the Public Health Service Act and Sections 399H(c)(1) and (2) of the Public Health Service Act. Continued funding will be contingent on the enactment of authorizing State legislation and promulgation of all required State regulations. Applicants for Part I or Part II must provide a properly signed Assurance Form in accordance with Section 399H(c)1 and 2. An Assurance Form is provided in the application package.

I.4.a.(3) Declaration of Federal Assistance Requested:

Provide a brief summary, one paragraph only, of the type of Federal assistance requested: Part I, Enhancement of an existing statewide cancer registry, including any requests for funds for advanced activities, if applicable; or, Part II, Planning and Implementation of a statewide cancer registry.

I.4.a.(4) Existing Resources and Needs Assessment:

Applicants for Part I or Part II:

Describe the current activities of, and any existing limitations to, the statewide, population-based, cancer registry including:

I.4.a.(4)(a) A description of all existing and potential hospital and non-hospital sources of cancer cases including in-state and out-of-state facilities and health care providers that provide cancer screening, diagnosis, or treatment to State residents.

I.4.a.(4)(b) A description of existing electronic cancer reporting systems to the State, including hospital, regional, and other tumor registries. Such descriptions should include an assessment of data entry and data processing procedures and any problems in reporting data to the central registry.

I.4.a.(4)(c) A description of the operations of the central cancer registry in the State which includes:

I.4.a.(4)(c)[1] A listing of data items currently collected.

I.4.a.(4)(c)[2] An assessment of completeness of cancer reporting by year of diagnosis for 1995 and forward, or NPCR reference year and forward, as applicable. A description of the method used to estimate the expected number of cases and a description of the method for determining the completeness of reporting (e.g., the NAACCR method, which is used for registry certification and is based on incidence-to-mortality rate ratios) should be provided.

I.4.a.(4)(c)[3] An assessment of timeliness of case reporting, including a description of the method used to measure timeliness (for example, a direct measurement from date of diagnosis or date of first contact to date case report received; or, an indirect measurement based on the completeness tables provided to CDC each quarter for applicants currently funded by NPCR.)

I.4.a.(4)(c)[4] An assessment of the quality of data for diagnosis years 1995 through 2001 and a description of the method for measuring specific quality indicators. Indicators may include, but are not limited to, the following: The percent of data items coded as either unknown or missing for select variables, for example, age at diagnosis, sex, race, State and county; the percent of cases which were Death Certificate Only; the number of duplicate records per 1000; and the percent of cases passing EDITS using, for example, NAACCRs' metafile (CINA EDITS).

I.4.a.(4)(c)[5] A description of on-going quality assurance procedures in place for data quality, including but not limited to, case-finding and re-abstracting audits, visual editing, and types of computerized edits; and a description of any problems with quality control.

I.4.a.(4)(c)[6] A description of existing staff and sources of funding support (i.e., State, Federal, or in-kind).

I.4.a.(4)(c)[7] A description of the flow of data through the central cancer registry, including the database design as well as other data processing systems. This description should include a brief summary of data flow between hospital, regional and other tumor registries and the central cancer registry. In addition, this description should include steps such as editing, quality control, matching, merging, consolidation, feedback to reporting facilities, and error resolution, etc.

I.4.a.(4)(c)[8] Existing uses of cancer registry data.

I.4.a.(4)(c)[9] A brief description of existing registry policies and procedures that are written and currently implemented.

I.4.a.(4)(c)[10] A description of educational and training activities undertaken by central registry staff for both central registry and reporting facilities staff. The description should include how educational priorities are identified and how they relate to information obtained from quality control activities.

I.4.a.(4)(d) In an appendix, provide the most recent annual report of cancer incidence and mortality data. In the absence of a published annual report, provide a description of existing cancer data in the State, including, but not limited to, age-adjusted incidence/mortality rates for cancer for the most recent year available; a discussion of limitations, including the lack of availability of cancer rates; incompleteness of case ascertainment of all or certain cancer sites; and any difficulties identifying race/ethnicity.

I.4.a.(4)(e) A description of legislation and regulations in place, pending legislation, or progress toward introducing legislation that legally supports the existence and operation of a State central cancer registry. This should include a letter from the applicant's State Attorney General or highest ranking State Legal Officer describing to what extent the applicant is in compliance with Section 399H(c)(2)(D) of the Public Health Service Act which requires the authorization under State law of the statewide cancer registry. The letter should also document the extent to which the State has promulgated regulations to support all eight criteria specified in Section 399H(c)(2)(D) of the Public Health Service Act;

I.4.a.(4)(f) A description of central cancer registry computer hardware and software to include:

I.4.a.(4)(f)[1] Existing computer equipment for central registry operations as well as regional registry operations, if applicable.

I.4.a.(4)(f)[2] An assessment of the central cancer registry software system including strengths and limitations of the system and how it is meeting functional requirements of a system as specified in the NAACCR Standard Volume III, Standards for Completeness, Quality, Analysis, and Management of Data.

I.4.a.(4)(f)[3] Report-generating capacity of current software package(s) needed for management reports, annual reports, special studies, and potential cancer cluster investigations.

I.4.a.(4)(f)[4] Procedures for receiving, matching, and merging data from various reporting sites (or facilities), including a description of the type of matching system (e.g., deterministic or probabilistic).

I.4.a.(4)(f)[5] Procedures for transmitting data to other central cancer registries and a description of the barriers of electronic exchange.

I.4.a.(4)(f)[6] Procedures for matching registry cases with deaths in the State mortality database and processing cases for death certificate follow-back. Also describe any procedures to match with the National Death Index (NDI).

I.4.a.(4)(f)[7] Procedures for matching registry cases with geographic information systems to identify the corresponding census tract information.

I.4.a.(4)(f)[8] Procedures for production of an electronic annual report and/or a Web-based query system of a public use data file.

I.4.a.(5) Management and Staffing Plan: Applicants for Part I or Part II:

Describe how the program will be effectively managed including:

I.4.a.(5)(a) Management structure, including the lines of authority and plans for fiscal control.

I.4.a.(5)(b) The staff positions responsible for implementation of the program.

I.4.a.(5)(c) Qualifications of the designated or proposed management and technical staff.

I.4.a.(5)(d) A brief description of the training needs/plan for the staff. A copy of the organizational chart indicating the placement of the proposed program, abbreviated (one page) resumes for designated staff, and job descriptions for the proposed staff should be included in the application as an appendix.

I.4.a.(6) Collaborative Relationships: Applicants for Part I and Part II:

Describe, and provide evidence of (or for Part II, describe plans for), collaborative relationships between the State and agencies relevant to cancer registries or cancer surveillance:

I.4.a.(6)(a) An advisory committee to assist in building consensus, cooperation, and planning for the statewide cancer registry.

I.4.a.(6)(b) Within the State such as Vital Statistics Office, State cancer prevention and control program(s), universities, the health care community, hospital associations, and professional and voluntary associations.

I.4.a.(6)(c) With other States or national organizations, such as sharing of case data reciprocal agreements and actual sharing of case data.

I.4.a.(6)(d) With Federally-funded programs such as the National Breast and Cervical Cancer Early Detection Program; Department of Veterans Affairs; Military and Armed Forces facilities; the National Cancer Institute's Surveillance, Epidemiology, and End Results Program; and Native American Health Boards/Tribal Organizations/Indian Health Service in States with Native American populations.

I.4.a.(6)(e) Identify and describe any proposed new collaborative relationships that would enhance registry performance.

I.4.a.(7) Operational Plan: Applicants for Part I:

Describe in detail the objectives for the proposed enhancements to the existing State cancer registry. These objectives should relate directly to the “Recipient Activities” listed under “Program Requirements” and Program Assurances listed under “Other Requirements” in Section I of this Announcement. The applicant should describe the specific outcome and process objectives to directly address and resolve the needs identified in the section entitled, “Existing Resources and Needs Assessment.” A projected timetable for program implementation and evaluation should be included that displays dates for the accomplishment of specific proposed activities.

I.4.a.(8) Data Utilization:

Applicants for Part I or Part II:

Delineate a plan for the use of cancer registry data for cancer prevention and control within the State. Examples might include, but not be limited to: detailed incidence/mortality estimates; linkage with a statewide cancer screening program to improve follow-up of screened patients; health-event investigations; needs assessment/program planning; program evaluation; and/or descriptive epidemiologic studies.

I.4.a.(9) Workplan:

A Year 01 detailed workplan and timeline, including evaluation activities to be accomplished must be submitted. The workplan should include the following:

I.4.a.(9)(a) Goals and objectives for Year 01.

I.4.a.(9)(b) Activities planned to achieve objectives.

I.4.a.(9)(c) Data that will be used to assess program activities.

I.4.a.(9)(d) Timeline for assessing progress.

I.4.a.(9)(e) The person or persons responsible for activities.

I.4.a.(9)(f) Overall measures of success.

I.4.a.(9)(g) A plan for program management, including an organizational chart. Describe those positions which have oversight responsibility. Address leadership and administrative plans. Discuss strategies for ensuring appropriate communication among key staff on the status of program implementation, maintenance, and related issues; and

I.4.a.(9)(h) Any new or significantly revised items or information (objectives, scope of activities, operational methods, evaluation, key personnel, workplan, etc.) not included in any previous applications.

I.4.a.(9)(i) The following components should also be addressed in the work plan.

I.4.a.(9)(i)[1] A plan for achieving all program objectives summarized in Attachment I “NPCR Objectives and Detailed Standards” (e.g. legislation and regulations, uniform data elements, completeness of reporting, timeliness of reporting, etc). If appropriate, the plan may include improving the completeness or quality of past years' data for one or more diagnosis years beginning with the registry's NPCR reference year through the 1999 diagnosis year.

I.4.a.(9)(i)[2] A plan for data use, analysis, and dissemination (only from recipients who have achieved NPCR standards for completeness, timeliness, and quality).

I.4.a.(10) Itemized Budget and Justification:

A detailed budget with supporting justification must be provided and should be related to objectives that are stated in the applicant's workplan.

Applicants should note the following budget related issues:

I.4.a.(10)(a) Indirect Costs:

If indirect costs are requested, it will be necessary to include a copy of your organization's current negotiated Federal Indirect Cost Rate Agreement or a Cost Allocation Plan for those grantees under such a plan.

I.4.a.(10)(b) Travel:

Participation in CDC sponsored training workshops and meetings is essential to the effective implementation of the NCPCP. Travel for program implementation should be justified and related to implementation activities.

Participation or attendance in non-CDC sponsored professional meetings (e.g., ACS, NCI, APHA, other) may be requested but must be directly relevant to workplan activities. Participation may include the presentation of papers, poster sessions or exhibits on the project. Specific requests should be submitted with appropriate justification.

The annual travel budget should include:

I.4.a.(10)(b)[1] Travel funds for up to two persons to Atlanta, GA to attend the CDC Program Director's Meeting.

I.4.a.(10)(b)[2] Travel funds to attend national cancer registry meetings and applicable workshops.

I.4.a.(10)(b)[3] Travel funds for up to two persons to Atlanta, GA to make one, two-day trip to Atlanta for a reverse site visit.

The following additional guidance relates to the NPCR portion only of this program announcement.

I.4.a.(10)(c) Financial Participation:

The level of financial participation by the applicant should also be reflected in this section as it relates to:

I.4.a.(10)(c)[1] Maintenance of Effort: Applicants for Part I or Part II:

Identify and describe the amount of contributions expended during the fiscal year preceding the first year of the original NPCR cooperative agreement for the collection of data on cancer. The amount of contributions will be used to establish a baseline for current and future maintenance of effort requirements. [Section 399H(b)]

I.4.a.(10)(c)[2] Matching Funds: Applications for Part I ONLY:

Identify and describe:

I.4.a.(10)(c)[2][a] State sources of allowable matching funds for the program and the estimated amounts from each source. The total amount of the non-Federal contributions shall be an amount that is not less than 25 percent of the total cost of the program including the match or one dollar for every three dollars of Federal funds provided in the grant. [Section 399H(b)]

I.4.a.(10)(c)[2][b] Procedures for documenting the value of non-cash matching funds.

I.4.a.(11) Appendices:

The appendices should include new personnel, vacant positions (note the duration), health department leadership and organizational changes impacting on the program, and legislative impacts on the program.

I.5. Other NPCR Requirements

I.5.a. Technical Reporting Requirments

In addition to the general reporting requirements that apply to all components (Please refer to Section J.1.—“Technical Reporting Requirements”.) the following additional Reporting Requirements apply to the NPCR component only of this program announcement.

I.5.a.(1) NPCR Call for Data:

The first submission will be due in January of each year in the form of a Call for Data. Grantees will report a subset of the Required and Recommended data items to CDC annually as one of the progress reports. Cumulative data will be requested, from the reference year to 12 months past the close of the diagnosis year. Detailed reporting instructions will follow. Annual program evaluation data should also be submitted at this time.

I.5.a.(2) Moving from a Planning Program to an Enhancement Program within the five year Project Period.

For NPCR specifically, the first of the two required progress reports may be used as evidence of NPCR's Planning Program's attainment of goals and objectives and the program's readiness to move to an Enhancement Program award should funds be available. In future years, Planning Program grantees wishing to apply for an Enhancement Program, should submit an application that:

I.5.a.(2)(a) Demonstrates success in meeting Planning Program objectives to plan, implement, and support the operation of a population-based statewide cancer registry.

I.5.a.(2)(b) References “Application Content” and “Recipient Activities” sections of this program announcement including a line item budget and budget justification. See Section I.4.a.(10) “Itemized Budget and Justification” for general guidance in developing this section of the Application. See also Section I.4.a.(10)(c) “Financial Participation” for additional guidance that is specific to the NPCR component.

Enhancement Program applications will be reviewed by CDC staff utilizing an Internal CDC Review process. Applications can be submitted in fiscal year 2003, 2004, 2005, or 2006. Applications must be submitted (post marked) by February 28 of the fiscal year in which the applicant wishes to be considered for Implementation funding.

Funding decisions may be made on the basis of satisfactory progress on the Performance Measures noted for each component as evidenced by required reports, application score, and the availability of funds. Performance measures are listed after each Recipient Activity.

I.6. NPCR Evaluation Criteria for both Planning and Enhancement Programs

I.6.(a) Resources and Needs Assessment (25 points)

The extent to which the applicant describes current activities and existing strengths and limitations of the state-level cancer registry, and provides the following:

(a) A description of all existing and potential sources of cancer cases;

(b) a description of existing computerized cancer reporting systems in the State;

(c) a description of centralized cancer reporting in the State including a listing of data items currently collected; an assessment of data completeness, timeliness and quality; a description of ongoing quality assurance procedures for data quality; a description of existing staff, qualifications, and source of funding; a description of the flow of data through the central cancer registry; a description of existing uses of cancer registry data; a description of existing registry policies and procedures that are written and implemented; a description of educational and training activities undertaken by central registry staff for central registry and reporting facilities staff; a copy of the most recent annual report of cancer incidence and mortality data or a description of existing cancer data in the State; a description of “enabling” State legislation and regulations including a copy of the State Attorney General's (or highest ranking State Legal Officer's) letter of assessment; and a description of existing computer hardware and software.

I.6.(b) Collaboration (10 points)

The extent to which the applicant describes a current or proposed advisory committee and describes past, current, and proposed collaboration with the relevant organizations and agencies within the State; with other States or national organizations; with Federally-funded health care programs such as the National Breast and Cervical Cancer Early Detection Program, Department of Veterans Affairs, Military and Armed Forces Facilities, the National Cancer Institute's Surveillance, Epidemiology, and End Results Program, and Native American Health Boards/Tribal organizations/Indian Health Service in States with Native American populations.

I.6.(c) Proposed Objectives (20 points)

The extent to which objectives are specific, measurable, time-phased, and realistic; provide for outcome and process objectives which meet the requirements of Public Law 102-515; and are derived from needs identified in the resources and needs assessment.

I.6.(d) Proposed Implementation Plan and Schedule (20 points)

The extent to which the major steps required for project implementation adequately address the needs assessment, are realistically described, and the project timetable displays appropriate dates for the accomplishment of specific project activities.

I.6.(e) Data Utilization (10 points)

The extent to which the applicant provides a relevant and realistic plan to use cancer registry data within the State for cancer prevention and control. The applicant should also address the extent to which they have plans for production of an electronic annual report and/or a Web-based query system of a public use data file.

I.6.(f) Project Management and Staffing Plan (15 points)

The extent to which proposed staffing, organizational structure, staff experience and background, identified training needs or plan, and job descriptions and curricula vitae for both proposed and current staff indicate ability to carry out the purposes of the program.

I.6.(g) Budget (Not Scored)

The extent to which the applicant provides a detailed budget and justification consistent with the stated objectives and program activities.

J. Other Requirements

J.1. Technical Reporting Requirements

All of the following reporting requirements to be submitted to CDC should include an original and two copies of:

J.1.a. Progress Report (1 of 2)

The first submission will be due February 28 of each year in the form of a progress report that succinctly describes progress for the period September 30, 2002 thru January 31, 2003 (for the first budget period) in meeting stated objectives. In future years, submission of this report should cover the period June 30-January 31 (of each year). If program objectives were not met, provide an explanation and steps to be taken to meet the objectives. This report will also serve as a continuation application and should include:

J.1.a.(1) A workplan with new objectives for the following budget period.

J.1.a.(2) A one year line item budget and justification for the same 12 month period.

J.1.a.(3) A hard copy of the State's most recent annual report on cancer incidence.

J.1.a.(4) Additional component specific information.

J.1.a.(4)(a) NCCCP:

See “Section G.5. Other Requirements” for specific Guidance on the content of this progress report and how Planning Program recipients may apply for Implementation Program funds in future years.

J.1.a.(4)(b) NBCCEDP:

There is no additional specific information for this component.

J.1.a.(4)(b) NPCR:

See “Section I.5. Other Requirements” for specific guidance on how Planning Program recipients may apply for Enhancement Program funds in future years.

J.1.b. Progress Report (2 of 2)

The second submission will be due July 31 of each year in the form of a progress report addressing progress toward achieving objectives detailed in the application during the time period from February 1 through June 30 (5 months).

All manuscripts published as a result of the work supported in part or whole by the cooperative agreement, should be submitted with the progress report.

J.1.c. Financial Status Report

Due no more than 90 days after the end of the budget period with unobligated funds tracked separately by component (NCCCP, NBCCEDP, and NPCR).

J.1.d. Final Financial and Performance Reports

Due no more than 90 days after the end of the project period.

Send all reports to the Grants Management Specialist identified in the “Where to Obtain Additional Information” section of this announcement.

J.2. Additional Requirements for all components

The following additional requirements are applicable to this program. For a complete description of each, see the “Additional Requirements” attachment in the application kit.

AR-7—Executive Order 12372 Review

AR-9—Paperwork Reduction Act Requirements

AR-10—Smoke-Free Workplace Requirements

AR-11—Healthy People 2010

AR-12—Lobbying Restrictions

The following additional requirements are applicable to the specific components under which they are listed.

J.2.(a) Additional Requirements for NCCCP

AR-8—Public Health System Reporting Requirements

J.2.(b) Additional Requirements for NBCCEDP:

AR-1—Human Subjects Requirement

AR-2 Requirements for Inclusion of Women and Racial and Ethnic Minorities in Research

J.2.(c) Additional Requirements for NPCR

AR— Human Subjects Requirements

AR—2 Requirements for Inclusion of Women and Racial and Ethnic Minorities in Research

AR-21—National Program of Cancer Registries Program Standards

AR-22—Required Status Table

K. Authority and Catalog of Federal Domestic Assistance Number

K.1. NCCCP

This program is authorized under section 317(k)(2) of the Public Health Service Act, [42 U.S.C. section 247b (k)(2)], as amended. The Catalog of Federal Domestic Assistance number is 93.283.

K.2. NBCCEDP

This program is authorized under sections 1501-1510 [42 U.S.C. 300k, 42 U.S.C. 3001, 42 U.S.C. 300m, 42 U.S.C. 300n, 42 U.S.C. 300 n-1, 42 U.S.C. 300 n-2, 42 U.S.C. 300 n-3, 42 U.S.C. 300 n-4, 42 U.S.C. 300 n-4a, 42 U.S.C. 300 n-5] of the Public Health Service Act, as amended. The Catalog of Federal Domestic Assistance number is 93.919.

K.3. NPCR

This program is authorized under sections 399H-399L of the Public Health Service Act, [42 U.S.C. sections 280e-280e-4; Public Law 102-515], as amended. This program was re-authorized as part of the Women's Health Research and Prevention Amendments of 1998, Public Law 105-340. The Catalog of Federal Domestic Assistance number is 93.283.

L. Where To Obtain Additional Information

This and other CDC announcements can be found on the CDC home page Internet address— http://www.cdc.gov Click on “Funding” then “Grants and Cooperative Agreements.”

If you have questions after reviewing the contents of all the documents, business management technical assistance may be obtained from: Annie Camacho or Glynnis Taylor, Grants Management Specialist, Grants Management Branch, Procurement and Grants Office, Centers for Disease Control and Prevention, 2920 Brandywine Road, Room 3000, Atlanta, GA 30341-4146.

Telephone number:Annie Camacho: 770-488-2735, Glynnis Taylor: 770-488-2752.

E-mail address:Annie Camacho: atc4@cdc.gov, Glynnis Taylor: gld1@cdc.gov.

For program technical assistance, contact:

NCCCP: Leslie S. Given, MPA, NCCCP Unit, Program Services Branch, Division of Cancer Prevention and Control, National Center for Chronic Disease Prevention and Health Promotion, Centers for Disease Control and Prevention, 4770 Buford Hwy., NE (MS K-57), Atlanta, GA 30341-3717. Telephone number: 770-488-3099. E-mail address: llg5@cdc.gov.

NBCCEDP: Susan True, M.Ed., Branch Chief, Program Services Branch, Division of Cancer Prevention and Control, National Center for Chronic Disease Prevention and Health Promotion, Centers for Disease Control and Prevention, 4770 Buford Hwy., NE (MS K-57), Atlanta, GA 30341-3717. Telephone number: 770-488-4880. E-mail address: smt7@cdc.gov.

NPCR: Leah Simpson, Program Analyst, Cancer Surveillance Branch, Division of Cancer Prevention and Control, National Center for Chronic Disease Prevention and Health Promotion, Centers for Disease Control and Prevention, 4770 Buford Hwy., NE (MS K-53), Atlanta, GA 30341-3717. Telephone number: 770-488-4158. E-mail address: lds0@cdc.gov.

Dated: April 16, 2002.
Edward J. Schultz,
Acting Director, Procurement and Grants Office, Centers for Disease Control and Prevention.

[FR Doc. 02-9724 Filed 4-22-02; 8:45 am]

BILLING CODE 4163-18-P